DEPARTMENT OF HOMELAND SECURITY

Coast Guard

33 CFR Parts 100 and 165

[Docket No. USCG-2010-1001]

RIN 1625-AA00; 1625-AA08

Special Local Regulations and Safety Zones; Recurring Events in Captain of the Port New York Zone

AGENCY: Coast Guard, DHS.

ACTION: Final rule.

SUMMARY: The Coast Guard is removing, adding, and consolidating special local regulations and establishing permanent safety zones in the Coast Guard Captain of the Port (COTP) New York Zone for annual recurring swim events, fireworks displays, and marine events (annual recurring events). When these special local regulations or safety zones are activated and subject to enforcement, this will restrict vessels from portions of water areas during these annual recurring events. The special local regulations and safety zones will facilitate public notification of events and help protect the public and event participants from the hazards associated with these annual recurring events.

DATES: This rule is effective December 9, 2011.

ADDRESSES: Comments and material received from the public, as well as documents mentioned in this preamble as being available in the docket, are part of docket USCG-2010-1001 and are available online by going to http://www.regulations.gov, inserting USCG-2010-1001 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this proposed rule, call or email LTJG Eunice James, Coast Guard; telephone (718) 354-4163, email Eunice.A.James@uscg.mil. If you have questions on viewing or submitting material to the docket, call Renee V. Wright, Program Manager, Docket Operations, telephone 202-366-9826.

SUPPLEMENTARY INFORMATION:

Regulatory Information

On June 29, 2011, we published a notice of proposed rulemaking (NPRM) entitled Special Local Regulations and Safety Zones; Recurring Events in Captain of the Port New York Zone in the Federal Register (76 FR 125). We received no comments on the proposed rule. No public meeting was requested and none was held.

Basis and Purpose

The legal basis for the proposed rule is 33 U.S.C. 1225, 1226, 1231, 1233; 46 U.S.C. Chapter 701, 3306, 3703; 50 U.S.C. 191, 195; Public Law 107-295, 116 Stat. 2064; and Department of Homeland Security Delegation No. 0170.1, which collectively authorize the Coast Guard to define regulatory safety zones and special local regulations.

Swim events, fireworks displays, and marine events are held on an annual recurring basis on the navigable waters within the COTP New York Zone. In the past, the Coast Guard has established special local regulations, regulated areas, and safety zones for these annual recurring events on a case by case basis to ensure the protection of the maritime public and event participants from the hazards associated with these events. The Coast Guard has not received public comments or concerns regarding the impact to waterway traffic from these annually recurring events.

This rule will consistently apprise the public in a timely manner through permanent publication in Title 33 of the Code of Federal Regulations. The TABLES in this regulation list each annual recurring event requiring a regulated area as administered by the Coast Guard.

By establishing a permanent regulation containing these annual recurring events, the Coast Guard would eliminate the need to establish temporary rules for events that occur on an annual basis, thereby, limiting the costs associated with cumulative regulations.

This rulemaking has removed, added, and consolidated regulations that better meet the Coast Guard's intended purpose of ensuring safety during these events.

Background

The Coast Guard is adding 33 CFR 100.150 and consolidating sections 33 CFR 165.161, 165.162, 165.166, 165.168, 165.170 into a new section, 33 CFR 165.160. The rule applies to the annual recurring events listed in the attached Tables in the COTP New York Zone. The Tables provide the event name, and type, as well as locations of the events. The specific times, dates, regulated areas, and enforcement period for each event will be provided through the Local Notice to Mariners, Broadcast Notice to Mariners and online at http://homeport.uscg.mil/newyork or through a Notice of Enforcement published in the Federal Register.

During enforcement periods, the safety zones in TABLE 1 to § 165.160 will be enforced from 6 p.m. to 1 a.m. each day a barge with a “Fireworks—Stay Away” sign on the port and starboard side is on-scene or a “Fireworks—Stay Away” sign is posted on land adjacent to the shoreline, in a location listed in the TABLE 1 to § 165.160. Vessels may enter, remain in, or transit through these safety zones during this time frame if authorized by the COTP New York or the designated representative.

The particular size of the safety zones established for each event will be reevaluated on an annual basis in accordance with Navigational and Vessel Inspection Circular (NVIC) 07-02, Marine Safety at Firework Displays, the National Fire Protection Association Standard 1123, Code for Fireworks Displays (30-yard distance per inch of diameter of the fireworks mortars), and other pertinent regulations and publications.

This regulation will prevent vessels from transiting areas specifically designated as special local regulations or safety zones during the periods of enforcement to ensure the protection of the maritime public and event participants from the hazards associated with the listed annual recurring events. Only event sponsors, designated participants, and official patrol vessels will be allowed to enter regulated areas. Spectators and other vessels not registered as event participants may not enter the safety zones without the permission of the COTP or the designated representative.

Discussion of Comments and Changes

The Coast Guard made the following changes to the published NPRM regulatory text:

Safety zones listed in Table 1 to § 165.160 have been reordered and renumbered to more accurately reflect their geographical locations. In the published NPRM regulatory text, the Rumson, NJ, Safety Zone and the Red Bank, NJ, Safety Zone were listed under the heading “New York Harbor” in Table 1 to § 165.160 and numbered as 2.16 and 2.17. They are now listed under the “Navesink River” heading in Table 1 to § 165.160 and numbered 7.2 and 7.3 respectively.

Keyport, NJ, Safety Zone was not included in the NPRM and is now listed under the heading “Navesink River” and numbered as 7.1. Since The Coast Guard has previously established a temporary safety zone at this location in the past and has not received public comments or concerns regarding the impact to waterway traffic, we decided it should be included in this recurring events regulation.

In the regulatory text under § 165.160(a), the existing text reads as follows: “Notifications of exact dates and times of the enforcement period will be made to the local maritime community through the Local Notice to Mariners and Broadcast Notice to Mariners or through a Notice of Enforcement in the Federal Register well in advance of the events”. We revised the text to help the public better understand our intentions regarding notification of enforcement of the safety zones.

Regulatory Analyses

We developed this rule after considering numerous statutes and executive orders related to rulemaking. Below we summarize our analyses based on 13 of these statutes or executive orders.

Executive Order 12866 and Executive Order 13563

This rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this rule to be minimal. Although this regulation may have some impact on the public, the potential impact will be minimized for the following reasons:

The Coast Guard has previously promulgated safety zones or special local regulations, in accordance with 33 CFR Parts 100 and 165, for all event areas contained within this regulation and has not received notice of any negative impact caused by any of the safety zones or special local regulations. By establishing a permanent regulation containing all of these events, the Coast Guard will eliminate the need to establish individual temporary rules for each separate event that occurs on an annual basis, thereby limiting the costs of cumulative regulations.

Vessels will only be restricted from safety zones and special local regulation areas for a short duration of time. Vessels may transit in portions of the affected waterway except for those areas covered by the regulated areas. Notifications of exact dates and times of the enforcement period will be made to the local maritime community through the Local Notice to Mariners and Broadcast Notice to Mariners or through a Notice of Enforcement in the Federal Register. No new or additional restrictions would be imposed on vessel traffic.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule would affect the following entities, some of which might be small entities: Owners or operators of vessels intending to transit, fish, or anchor in the areas where the listed annual recurring events are being held.

The rule would not have a significant economic impact on a substantial number of small entities for the following reasons: Vessels will only be restricted from safety zones and special local regulation areas for a short time; vessels may transit in portions of the affected waterway except for those areas covered by the regulated areas; the Coast Guard has promulgated safety zones or special local regulations in accordance with 33 CFR parts 100 and 165 for all event areas in the past and has not received notice of any negative impact caused by any of the safety zones or special local regulations; notifications of exact dates and times of the enforcement period will be made to the local maritime community through the Local Notice to Mariners and Broadcast Notice to Mariners or through a Notice of Enforcement in the Federal Register. No new or additional restrictions would be imposed on vessel traffic.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-(888) 734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34) (g) and (h) of the Instruction. This rule involves establishment of special local regulations and safety zones. An environmental analysis checklist and a categorical exclusion determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, and Waterways.

For the reasons discussed in the preamble, the Coast Guard amends 33 CFR Parts 100 and 165 as follows:

PART 100—SAFETY OF LIFE ON NAVIGABLE WATERS

1. The authority citation for Part 100 continues to read as follows:

Authority: 33 U.S.C. 1233.

2. Add a new § 100.150 to read as follows:

§ 100.150 Special Local Regulations; Marine Events in the Coast Guard Sector New York Captain of the Port Zone.

The following regulations apply to the marine events listed in the TABLE to § 100.150. These regulations will be enforced for the duration of each event, on or about the dates indicated. Annual notice of the exact dates and times of the effective period of the regulations with respect to each event, the geographical area, and details concerning the nature of the event and the number of participants and type(s) of vessels involved will be published in a Local Notices to Mariners and broadcast over VHF-FM radio. First Coast Guard District Local Notice to Mariners can be found at: http://www.navcen.uscg.gov/. The Sector New York Marine Events schedule can also be viewed electronically at http://www.homeport.uscg.mil/newyork. Although listed in the Code of Federal Regulations, sponsors of events listed in the TABLE to § 100.150 are still required to submit marine event applications in accordance with 33 CFR 100.15.

(a) Definitions. The following definitions apply to this section:

(1) Designated Representative. A “designated representative” is any Coast Guard commissioned, warrant or petty officer of the U.S. Coast Guard who has been designated by the Captain of the Port, Sector New York (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(b) Vessel operators desiring to enter or operate within the regulated areas shall contact the COTP or the designated representative via VHF channel 16 or (718) 354-4353 (Sector New York command center) to obtain permission to do so.

(c) Vessels may not transit the regulated areas without the COTP or designated representative approval. Vessels permitted to transit must operate at a no wake speed, in a manner which will not endanger participants or other crafts in the event.

(d) Spectators or other vessels shall not anchor, block, loiter, or impede the transit of event participants or official patrol vessels in the regulated areas during the effective dates and times, or dates and times as modified through the Local Notice to Mariners, unless authorized by COTP or designated representative.

(e) The COTP or designated representative may control the movement of all vessels in the regulated area. When hailed or signaled by an official patrol vessel, a vessel shall come to an immediate stop and comply with the lawful directions issued. Failure to comply with a lawful direction may result in expulsion from the area, citation for failure to comply, or both.

(f) The COTP or designated representative may delay or terminate any marine event in this subpart at any time it is deemed necessary to ensure the safety of life or property.

(g) For all power boat races listed, vessels not participating in this event, swimmers, and personal watercraft of any nature are prohibited from entering or moving within the regulated area unless authorized by the COTP or designated representative. Vessels within the regulated area must be at anchor within a designated spectator area or moored to a waterfront facility in a way that will not interfere with the progress of the event.

Table to § 100.150
1.0 | Hudson River
1.1 New York Super Boat Race | • Event type: Power Boat Race.
| • Date: The weekend after Labor Day.
| • Location: All waters of the Lower Hudson River south of a line drawn from the northwest corner of Pier 76 in Manhattan, New York to a point on the New Jersey shore in Weehawken, New Jersey at approximate position 40°45′52″ N 074°01′01″ W (NAD 1983) and north of a line connecting the following points (all coordinates are NAD 1983): 40°42′16.0″ N, 074°01′09.0″ W; thence to 40°41′55.0″ N, 074°01′16.0″ W; thence to 40°41′47.0″ N, 074°01′36.0″ W; thence to 40°41′55.0″ N, 074°01′59.0″ W; thence to 40°42′20.5″ N, 074°02′06.0″ W.

PART 165—REGULATED NAVIGATION AREAS AND LIMITED ACCESS AREAS

3. The authority citation for Part 165 continues to read as follows:

Authority: 33 U.S.C. 1225, 1226, 1231; 46 U.S.C. Chapter 701, 3306, 3703; 33 CFR 1.05-1 and 160.5; Pub. L. 107-295, 116 Stat. 2064; Department of Homeland Security Delegation No. 0170.1.

4. Add a new § 165.160 to read as follows:

§ 165.160 Safety Zones; Fireworks Displays and Swim Events in Coast Guard Captain of the Port New York Zone.

(a) Regulations. The general regulations contained in 33 CFR 165.23 as well as the following regulations apply to the fireworks displays and swim events listed in Tables 1 and 2 to § 165.160. These regulations will be enforced for the duration of each event. Notifications will be made to the local maritime community through the Local Notice to Mariners and Broadcast Notice to Mariners well in advance of the events. If the event does not have a date listed, then exact dates and times of the enforcement period will be announced through a Notice of Enforcement in the Federal Register. Mariners should consult the Federal Register or their Local Notice to Mariners to remain apprised of schedule or event changes. First Coast Guard District Local Notice to Mariners can be found at http://www.navcen.uscg.gov/. The Captain of the Port Sector New York Marine Events schedule can also be viewed electronically at www.homeport.uscg.mil/newyork. Although listed in the Code of Federal Regulations, sponsors of events listed in Tables 1 and 2 to § 165.160 are still required to submit marine event applications in accordance with 33 CFR 100.15.

(b) Definitions. The following definitions apply to this section:

(1) Designated Representative. A “designated representative” is any Coast Guard commissioned, warrant or petty officer of the U.S. Coast Guard who has been designated by the Captain of the Port, Sector New York (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(b) Vessel operators desiring to enter or operate within the regulated areas shall contact the COTP or the designated representative via VHF channel 16 or (718) 354-4353 (Sector New York command center) to obtain permission to do so.

(c) Spectators or other vessels shall not anchor, block, loiter, or impede the transit of event participants or official patrol vessels in the regulated areas during the effective dates and times, or dates and times as modified through the Local Notice to Mariners, unless authorized by COTP or designated representative.

(d) Upon being hailed by a U.S. Coast Guard vessel or the designated representative, by siren, radio, flashing light or other means, the operator of the vessel shall proceed as directed. Failure to comply with a lawful direction may result in expulsion from the area, citation for failure to comply, or both.

(e) The COTP or designated representative may delay or terminate any marine event in this subpart at any time it is deemed necessary to ensure the safety of life or property.

(f) The regulated area for all fireworks displays listed in Table 1 to § 165.160 is that area of navigable waters within a 360 yard radius of the launch platform or launch site for each fireworks display, unless otherwise noted in TABLE 1 to § 165.160 or modified in USCG First District Local Notice to Mariners at: http://www.navcen.uscg.gov/.

(g) Fireworks barges used in these locations will also have a sign on their port and starboard side labeled “Fireworks—Stay Away”. This sign will consist of 10 inch high by 1.5 inch wide red lettering on a white background. Shore sites used in these locations will display a sign labeled “Fireworks—Stay Away” with the same dimensions. These zones will be enforced from 6 p.m. (E.S.T.) to 1 a.m. (E.S.T.) each day a barge with a “Fireworks—Stay Away” sign on the port and starboard side is on-scene or a “Fireworks—Stay Away” sign is posted in a location listed in TABLE 1 to § 165.160.

(h) For all swim events listed in Table 2 to § 165.160, vessels not associated with the event shall maintain a separation of at least 100 yards from the participants.

Table 1 to § 165.160
1.0 | Hudson River
1.1 Macy's 4th of July Fireworks | • Event Type: Fireworks.
| • Date: July 4th.
| • Rain Date: July 5th.
| • Location: All waters of the Hudson River bounded by a line drawn east from approximate position 40°46′35.43″ N, 074°00′37.53″ W in New Jersey, to approximate position 40°46′16.98″ N, 073°59′52.34″ W in New York, thence south along the Manhattan shoreline to approximate position 40°44′48.98″ N, 074°00′41.06″ W, then west to approximate position 40°44′55.91″ N, 074°01′24.94″ W, (NAD 83). Then north along the New Jersey shoreline and back to the point of origin.
2.0 | New York Harbor
2.1 Liberty Island Safety Zone | • Launch site: A barge located in approximate position 40°41′16.5″ N 074°02′23″ W (NAD 1983), located in Federal Anchorage 20-C, about 360 yards east of Liberty Island. This Safety Zone is a 360-yard radius from the barge.
2.2 Ellis Island Safety Zone | • Launch site: A barge located between Federal Anchorages 20-A and 20-B, in approximate position 40°41′45″ N 074°02′09″ W (NAD 1983) about 365 yards east of Ellis Island. This Safety Zone is a 360-yard radius from the barge.
2.3 South Ellis Island Safety Zone | • Launch site: A barge located in approximate position 40°41′39.9″ N 074°02′33.7″ W (NAD 1983), about 260 yards south of Ellis Island. This Safety Zone is a 240-yard radius from the barge.
2.4 South Beach, Staten Island Safety Zone | • Launch site: A barge located in approximate position 40°35′11″ N 074°03′42″ W (NAD 1983), about 350 yards east of South Beach, Staten Island. This Safety Zone is a 360-yard radius from the barge.
2.5 Raritan Bay Safety Zone | • Launch site: A barge located in approximate position 40°30′04″ N 074°15′35″ W (NAD 1983), about 240 yards east of Raritan River Cutoff Channel Buoy 2 (LLNR 36595). This Safety Zone is a 240-yard radius from the barge.
2.6 Coney Island Safety Zone | • Launch site: A land shoot from the south end of Steeplechase Pier, Coney Island in approximate position 40°34′11″ N 073°59′00″ W (NAD 1983). This Safety Zone is a 250-yard radius from the launch site.
2.7 Arthur Kill, Elizabeth, NJ Safety Zone | • Launch site: A land shoot located in Elizabeth, New Jersey in approximate position 40°38′50″ N 074°10′58″ W (NAD 1983), about 675 yards west of Arthur Kill Channel Buoy 20 (LLNR 36780). This Safety Zone is a 150-yard radius from the launch site.
2.8 Rockaway Beach Safety Zone | • Launch site: A barge located in approximate position 40°34′28.2″ N 073°50′00″ W (NAD 1983), 350 yards off of Beach 116th Street. This Safety Zone is a 360-yard radius from the barge.
2.9 Rockaway Inlet Safety Zone | • Launch site: A barge located in approximate position 40°34′19.1″ N 073°54′43.5″ W (NAD 1983). 1200 yards south of Point Breeze. This Safety Zone is a 360-yard radius from the barge.
2.10 Pierhead Channel, NJ Safety Zone | • Launch site: A barge located in approximate position 40°39′18.8″ N 074°04′39.1 W (NAD 1983), approximately 350 yards north of the Kill Van Kull Channel. This Safety Zone is a 360-yard radius from the barge.
2.11 Midland Beach, Staten Island Safety Zone | • Launch site: A barge located in approximate position 40°34′12″ N 074°04′29.6″ W (NAD 1983), approximately 800 yards southeast of Midland Beach. This Safety Zone is a 500-yard radius from the barge.
2.12 Wolfes Pond Park, Staten Island Safety Zone | • Launch site: A barge located in approximate position 40°30′52.1″ N 074°10′58.8″ W (NAD 1983), approximately 540 yards east of Wolfe′s Pond Park. This Safety Zone is a 500-yard radius from the barge.
2.13 Ocean Breeze Fishing Pier, Staten Island Safety Zone | • Launch site: A barge located in approximate position 40°34′46.3″ N 074°04′02.0″ W (NAD 1983), approximately 1150 yards west of Hoffman Island. This Safety Zone is a 360-yard radius from the barge.
2.14 Fort Hamilton Safety Zone | • Launch site: A barge located in approximate position 40°36′00″ N 074°01′42.5″ W (NAD 1983), approximately 1400 yards southeast of the Verrazano-Narrows Bridge. This Safety Zone is a 240-yard radius from the barge.
2.15 Liberty State Park Safety Zone | • Launch site: A barge located in approximate position 40°41′20.32″ N 074°03′29.35″ W (NAD 1983), approximately 334 yards south of Pier 7, Liberty State Park, Jersey City, New Jersey. This Safety Zone is a 240-yard radius from the barge.
3.0 | Western Long Island Sound
3.1 Peningo Neck, Western Long Island Sound safety zone | • Launch site: A barge located in approximate position 40°56′21″ N 073°41′23″ W (NAD 1983), approximately 525 yards east of Milton Point, Peningo Neck, New York. This Safety Zone is a 300-yard radius from the barge.
3.2 Satans Toe, Western Long Island Sound Safety Zone | • Launch Site: A barge located in approximate position 40°55′21″ N 073°43′41″ W (NAD 1983), approximately 635 yards northeast of Larchmont Harbor (East Entrance) Light 2 (LLNR 25720). This Safety Zone is a 360-yard radius from the barge.
3.3 Larchmont, NY, Western Long Island Sound Safety Zone | • Launch site: A barge located in approximate position 40°54′45″ N 073°44′55″ W (NAD 1983), approximately 450 yards southwest of the entrance to Horseshoe Harbor. This Safety Zone is a 240-yard radius from the barge.
3.4 Manursing Island, Western Long Island Sound Safety Zone | • Launch site: A barge located in approximate position 40°57′47″ N 073°40′06″ W (NAD 1983), approximately 380 yards north of Rye Beach Transport Rock Buoy 2 (LLNR 25570). This Safety Zone is a 360-yard radius from the barge.
3.5 Glen Island, Western Long Island Sound Safety Zone | • Launch site: A barge located in approximate position 40°53′12″ N 073°46′33″ W (NAD 1983), approximately 350 yards east of the northeast corner of Glen Island, New York. This Safety Zone is a 240-yard radius from the barge.
3.6 Twin Island, Western Long Island Sound Safety Zone | • Launch site: A land shoot located on the east end of Orchard Beach, New York in approximate position 40°52′10″ N 073°47′07″ W (NAD 1983). This Safety Zone is a 200-yard radius from the launch site.
3.7 Davenport Neck, Western Long Island Sound Safety Zone | • Launch site: A barge located in Federal Anchorage 1-A in approximate position 40°53′46″ N 073°46′04″ W (NAD 1983), approximately 360 yards north of Emerald Rock Buoy (LLNR 25810). This Safety Zone is a 360-yard radius from the barge.
3.8 Glen Cove, Hempstead Harbor Safety Zone | • Launch site: A barge located in approximate position 40°51′58″ N 073°39′34″ W (NAD 1983), approximately 500 yards northeast of Glen Cove Breakwater Light 5 (LLNR 27065). This Safety Zone is a 360-yard radius from the barge.
3.9 Bar Beach, Hempstead Harbor Safety Zone | • Launch site: A barge located in approximate position 40°49′50″ N 073°39′12″ W (NAD 1983), approximately 190 yards north of Bar Beach, Hempstead Harbor, New York. This Safety Zone is a 180-yard radius from the barge.
3.10 Larchmont Harbor (north), Western Long Island Sound Safety Zone | • Launch site: A barge located in approximate position 40°55′21.8″ N 073°44′21.7″ W (NAD 1983), approximately 560 yards north of Umbrella Rock. This Safety Zone is a 240-yard radius from the barge.
3.11 Orchard Beach, The Bronx Safety Zone | • Launch site: All waters of Long Island Sound in an area bound by the following points: 40°51′43.5″ N 073°47′36.3″ W; thence to 40°52′12.2″ N 073°47′13.6″ W; thence to 40°52′02.5″ N 073°46′47.8″ W; thence to 40°51′32.3″ N 073°47′09.9″ W (NAD 1983), thence to the point of origin.
3.12 Larchmont Harbor (south), Western Long Island Sound Safety Zone | • Launch site: A barge located in approximate position 40°55′16″ N 073°44′15″ W (NAD 1983), approximately 440 yards north of Umbrella Rock, Larchmont Harbor, New York. This Safety Zone is a 240-yard radius from the barge.
3.13 Sands Point Western Long Island Sound Safety Zone | • Launch site: A barge located in approximate position 40°52′03″ N 073°43′39″ W (NAD 1983), northeast of Hart Island, in the vicinity of Sands Point, New York. This Safety Zone is a 180-yard radius from the barge.
3.14 Echo Bay, Western Long Island Sound Safety Zone | • Launch site: A shore launch located in approximate position 40°54′34.41″ N 073°45′56.61″ W (NAD 1983), southeast portion of Harrison Island, New York. This Safety Zone is a 180-yard radius from the barge.
4.0 | East River
4.1 Wards Island, East River Safety Zone | • Launch site: A barge located in approximate position 40°46′57.8″ N 073°55′28.6″ W (NAD 1983), approximately 330 yards north of the Robert F. Kennedy Bridge (Triborough Bridge) Bridge. This Safety Zone is a 150-yard radius from the barge.
4.2 Newtown Creek, East River Safety Zone | • Launch site: A barge located in approximate position 40°′44″ 24 N 073°58′00″ W (NAD 1983), approximately 785 yards south of Belmont Island. This Safety Zone is a 360-yard radius from the barge.
4.3 Corlears, East River Safety Zone | • Launch site: A barge located in approximate position 40°42′34.53″ N 073°58′33.37″ W (NAD 1983), approximately 570 yards south of the Williamsburg Bridge, 250 yards west of Railroad Avenue, Corlears Hook, New York. This Safety Zone is a 180-yard radius from the barge.
4.4 Seaport, East River Safety Zone | • Launch site: All waters of the East River south of the Brooklyn Bridge and north of a line drawn from the southwest corner of Pier 3, Brooklyn, to the southeast corner of Pier 6, Manhattan.
5.0 | Hudson River
5.1 Pier 60, Hudson River Safety Zone | • Launch site: A barge located in approximate position 40°44′49″ N 074°01′02″ W (NAD 1983), approximately 500 yards west of Pier 60, Manhattan, New York. This Safety Zone is a 360-yard radius from the barge.
5.2 The Battery, Hudson River Safety Zone | • Launch site: A barge located in approximate position 40°42′00″ N 074°01′17″ W (NAD 1983), approximately 500 yards south of The Battery, Manhattan, New York. This Safety Zone is a 360-yard radius from the barge.
5.3 Battery Park City, Hudson River Safety Zone | • Launch site: A barge located in approximate position 40°42′39″ N 074°01′21″ W (NAD 1983), approximately 480 yard southwest of North Cove Yacht Harbor, Manhattan, New York. This Safety Zone is a 360-yard radius from the barge.
5.4 Pier 90, Hudson River Safety Zone | • Launch site: A barge located in approximate position 40°46′11.8″ N 074°00′14.8″ W (NAD 1983), approximately 375 yards west of Pier 90, Manhattan, New York. This Safety Zone is a 360-yard radius from the barge.
5.5 Yonkers, NY, Hudson River Safety Zone | • Launch site: A barge located in approximate position 40°56′14.5″ N 073°54′33″ W (NAD 1983), approximately 475 yards northwest of the Yonkers Municipal Pier, New York. This Safety Zone is a 360-yard radius from the barge.
5.6 Hastings-on-Hudson, Hudson River Safety Zone | • Launch site: A barge located in approximate position 40°59′44.5″ N 073°53′28″ W (NAD 1983), approximately 425 yards west of Hastings-on-Hudson, New York. This Safety Zone is a 360-yard radius from the barge.
5.7 Pier D, Hudson River Safety Zone | • Launch site: A barge located in approximate position 40°42′57.5″ N 074°01′34″ W (NAD 1983), approximately 375 yards southeast of Pier D, Jersey City, New Jersey. This Safety Zone is a 360-yard radius from the barge.
5.8 Pier 54, Hudson River Safety Zone | • Launch site: A barge located in approximate position 40°44′31″ N 074°01′00″ W (NAD 1983), approximately 380 yards west of Pier 54, Manhattan, New York. This Safety Zone is a 360-yard radius from the barge.
5.9 Pier 84, Hudson River Safety Zone | • Launch site: A barge located in approximate position 40°45′56.9″ N 074°00′25.4″ W (NAD 1983), approximately 380 yards west of Pier 84, Manhattan, New York. This Safety Zone is a 360-yard radius from the barge.
5.10 Peekskill Bay, Hudson River Safety Zone | • Launch site: A barge located in approximate position 41°17′16″ N 073°56′18″ W (NAD 1983), approximately 670 yards north of Travis Point. This Safety Zone is a 360-yard radius from the barge.
5.11 Jersey City, NJ, Hudson River Safety Zone | • Launch site: A barge located in approximate position 40°42′37.3″ N 074°01′41.6″ W (NAD 1983), approximately 420 yards east of Morris Canal Little Basin. This Safety Zone is a 360-yard radius from the barge.
5.12 Newburgh, NY, Hudson River Safety Zone | • Launch site: A barge located in approximate position 41°30′01.2″ N 073°59′42.5″ W (NAD 1983), approximately 930 yards east of Newburgh, New York. This Safety Zone is a 360-yard radius from the barge.
5.13 Poughkeepsie, NY, Hudson River Safety Zone | • Launch site: A barge located in approximate position 41°42′24.50″ N 073°56′44.16″ W (NAD 1983), approximately 420 yards north of the Mid Hudson Bridge. This Safety Zone is a 300-yard radius from the barge.
5.14 Pier 40, Hudson River Safety Zone | • Launch site: A barge located in approximate position 40°43′30″ N 074°01′06.7″ W (NAD 1983), in the vicinity of the Holland Tunnel Ventilator, 530 yards south of Pier 40, Manhattan, New York. This Safety Zone is a 240-yard radius from the barge.
5.15 Fort Tryon Park, Hudson River Safety Zone | • Launch site: A barge located in approximate position 40°51′52″ N 073°56′24″ W (NAD 1983), approximately 1750 yards north of the George Washington Bridge. This Safety Zone is a 180-yard radius from the barge.
6.0 | Hutchinson River
6.1 Bronx, NY Hutchinson River Safety Zone | • Launch site: A barge located in approximate position 40°52′31″ N 073°49′24″ W (NAD 1983). This Safety Zone is a 120-yard radius from the barge.
7.0 | Navesink River
7.1 Keyport, NJ, Safety Zone | Launch site: A barge located in approximate position 40°26′24″ N 074°12′18″ W (NAD 1983), approximately 200 yards north of Keyport, NJ. This Safety Zone is a 150-yard radius from the barge.
7.2 Rumson, NJ, Safety Zone | • Launch site: A barge located in approximate position 40°22′39.1″ N 074°01′07.3″ W (NAD 1983), approximately 600 yards south of the Oceanic Bridge. This Safety Zone is a 300-yard radius from the barge.
7.3 Red Bank, NJ, Safety Zone | Launch site: A barge located in approximate position 40°21′20″ N 074°04′10″ W (NAD 1983), approximately 360 yards northwest of Red Bank, NJ. This Safety Zone is a 300-yard radius from the barge.

Table 2 to § 165.160
1.0 | Hudson River
1.1 Hudson Valley Triathlon | • Event Type: Swim Event
| • Date: The first weekend after the 4th of July.
| • The following area is a safety zone: All waters of the Hudson River in the vicinity of Ulster Landing, bound by the following points: 42°00′03.7″ N, 073°56′43.1″ W; thence to 41°59′52.5″ N, 073°56′34.2″ W thence to 42°00′15.1″ N, 073°56′25.2″ W thence to 42°00′05.4″ N, 073°56′41.9″ W thence along the shoreline to the point of beginning.
| • This Safety Zone includes all waters within a 100-yard radius of each participating swimmer.
1.2 Newburgh Beacon Swim | • Event Type: Swim Event.
| • Date: Last weekend in July.
| • Rain Date: The first weekend in August.
| • Location: Participants will cross the Hudson River between Newburgh and Beacon, New York approximately 1300 yards south of the Newburgh-Beacon Bridges.
| • This Safety Zone includes all waters within a 100-yard radius of each participating swimmer.
1.3 Hudson River Swim for Life | • Event Type: Swim Event.
| • Date: 2nd weekend in September.
| • Location: Participants will cross the Hudson River in the vicinity of Nyack, New York between Lower Nyack Ledge and Kingsland Point, approximately 200 yards north of the Tappan Zee Bridge.
| • This Safety Zone includes all waters within a 100-yard radius of each participating swimmer.
1.4 Toughman Half Triathlon | • Event Type: Swim Event.
| • Date: 2nd weekend in September.
| • Location: Participants will swim in the vicinity of Croton Point Park, New York between Potato Rock and Harmon, New York from the shoreline out to 1000 yards.
| • This Safety Zone includes all waters within a 100-yard radius of each participating swimmer.
2.0 | East River
2.1 Brooklyn Bridge Swim | • Event Type: Swim Event.
| • Date: 2nd or 3rd weekend in September.
| • Location: Participants will swim between Brooklyn and Manhattan, New York crossing the East River along the Brooklyn Bridge.
| • This Safety Zone includes all waters within a 100-yard radius of each participating swimmer.
3.0 | Western Long Island Sound
3.1 Swim Across America | • Event Type: Swim Event.
| • Date: 4th weekend in July and 2nd weekend in August.
| • Location: Participants will swim between Glen Cove and Larchmont, New York and an area of Hempstead Harbor between Glen Cove and the vicinity of Umbrella Point.
| • This Safety Zone includes all waters within a 100-yard radius of each participating swimmer.
4.0 | Upper New York Bay, Lower New York Bay
4.1 Ederle Swim | • Event Type: Swim Event.
| • Date: 2nd or 3rd weekend in October.
| • Location: Participants will swim between Manhattan, New York and the north shore of Sandy Hook, New Jersey transiting through the upper New York Bay, under the Verrazano-Narrows Bridge and across the Lower New York Bay. The route direction is determined by the predicted tide state and direction of current on the scheduled day of the event.
| • This Safety Zone includes all waters within a 100-yard radius of each participating swimmer.
4.2 Rose Pitonof Swim
| • Event Type: Swim Event
| • Date: The 2nd weekend in August.
| • Location: Participants will swim between Manhattan, New York and the shore of Coney Island, New York transiting through the Upper New York Bay, under the Verrazano-Narrows Bridge and south in the Lower New York Bay. The route direction is determined by the predicted tide state and direction of current on the scheduled day of the event.
| • This Safety Zone includes all waters within a 100-yard radius of each participating swimmer.

§§ 165.161 and 165.162 [Removed]

5. Sections 165.161 and 165.162 are removed.

§ 165.168 [Removed]

6. Section 165.168 is removed.

§ 165.170 [Removed]

7. Section 165.170 is removed.

Dated: September 27, 2011.
L.L. Fagan,
Captain, U.S. Coast Guard, Captain of the Port New York.

[FR Doc. 2011-28847 Filed 11-8-11; 8:45 am]

BILLING CODE 9110-04-P